DEPARTMENT OF COMMERCE

National Oceanic and Atmospheric Administration

[I.D. 042507A]

New England Fishery Management Council; Public Meetings

AGENCY: National Marine Fisheries Service (NMFS), National Oceanic and Atmospheric Administration (NOAA), Commerce.

ACTION: Notice.

SUMMARY: The New England Fishery Management Council(Council) will hold six public hearings to solicit comment on Draft Amendment 11 including a Draft Supplemental Environmental Impact Statement (DSEIS) to the Sea Scallop Fishery Management Plan (FMP).

DATES: Written public comments must be received on or before 5 p.m. EST, June 11, 2007. The meetings will be held in May, 2007. For specific dates and times, see SUPPLEMENTARY INFORMATION.

ADDRESSES: The public hearing document can be obtained by contacting the New England Fishery Management Council, 50 Water Street, Mill 2, Newburyport, MA 01950.

Meeting addresses: The meetings will be held in Hyannis, MA, Fairhaven, MA, Ellsworth, ME, Durham, NH, Newport News, VA and Manahawkin, NJ. For specific locations, see SUPPLEMENTARY INFORMATION.

Written comments: Should be mailed to Patricia Kurkul, National Marine Fisheries Service, Northeast Regional Office, 1 Blackburn Drive, Gloucester, MA 01930. Mark on the envelope “Comments on Scallop Amendment 11”. Comments may also be sent via fax to (978)281-9135 or submitted via e-mail to Scallop.Eleven@noaa.gov with “Comments on Scallop Amendment 11” in the subject line.

FOR FURTHER INFORMATION CONTACT: Paul J. Howard, Executive Director, New England Fishery Management Council; telephone: (978) 465-0492.

SUPPLEMENTARY INFORMATION: The agendas for the following six hearings are as follows: NEMFC staff will brief the public on the scallop amendment and the contents of the DSEIS prior to opening the hearing for public comments and the schedules are as follows:

Council Meetings: Locations, Schedules, and Agendas

1. Wednesday, May 16, 2007 at 6 p.m.; Radisson Hotel, 287 Iyannough Road, Hyannis, MA 02601; telephone: (508) 771-1700.

2. Thursday, May 17, 2007 at 6 p.m.; Holiday Inn Express, 110 Middle Street, Fairhaven, MA 02719; telephone: (508) 997-1281.

3. Monday, May 21, 2007 at 6 p.m.; Holiday Inn, US Route 1 & 3, Ellsworth, ME 04605; telephone: (207) 667-9341.

4. Tuesday, May 22, 2007 at 6 p.m.; UNH NE Conference Center, 15 Strafford Avenue, Durham, NH 03824; telephone: (603) 862-2801.

5. Tuesday, May 29, 2007 at 6 p.m.; Virginia Marine Resources Commission, 2600 Washington Avenue, 3rd floor, Newport News, VA 23607; telephone:(757) 247-2247.

6. Wednesday, May 30, 2007 at 6 p.m.; Manahawkin Holiday Inn, 151 Route 72 East, Manahawkin, NJ 08050; telephone: (609) 481-6100.

Special Accommodations

These meetings are physically accessible to people with disabilities. Requests for sign language interpretation or other auxiliary aids should be directed to Paul J. Howard (see ADDRESSES), at least 5 working days prior to the meeting date.

Authority: 16 U.S.C. 1801 et seq.

Dated: April 25, 2007.
Tracey L. Thompson,
Acting Director, Office of Sustainable Fisheries, National Marine Fisheries Service.

[FR Doc. E7-8146 Filed 4-27-07; 8:45 am]

BILLING CODE 3510-22-S